DEPARTMENT OF COMMERCE

National Oceanic and Atmospheric Administration

[RTID 0648-XB209]

Takes of Marine Mammals Incidental to Specified Activities; Taking Marine Mammals Incidental to Treasure Island Ferry Dock Project, San Francisco, California

AGENCY: National Marine Fisheries Service (NMFS), National Oceanic and Atmospheric Administration (NOAA), Commerce.

ACTION: Notice; withdrawal of an incidental harassment authorization application.

SUMMARY: Notice is hereby given that the City and County of San Francisco, California (San Francisco) has withdrawn its application for an incidental harassment authorization (IHA) to incidentally harass marine mammals during construction activities associated with the Treasure Island Ferry Dock Project in San Francisco, California. Accordingly, NMFS has withdrawn its related proposed IHA.

FOR FURTHER INFORMATION CONTACT: Dwayne Meadows, Ph.D., Office of Protected Resources, NMFS, (301) 427-8401. Electronic copies of the original application and supporting documents (including NMFS Federal Register notices of the original proposed and final authorizations, and the previous IHA) may be obtained online at: https://www.fisheries.noaa.gov/permit/incidental-take-authorizations-under-marine-mammal-protection-act. In case of problems accessing these documents, please call the contact listed above.

SUPPLEMENTARY INFORMATION: On March 10, 2021 NMFS received an IHA application from San Francisco for the taking of marine mammals incidental to the Treasure Island Ferry Dock Project in San Francisco, California. The requested IHA would have authorized take, by Level B harassment only, of seven marine mammal species as a result of the specified activity. NMFS published a notice of the proposed IHA in the Federal Register (86 FR 28752) on May 28, 2021. On July 13, 2021, NMFS received notice from San Francisco withdrawing their IHA application for the proposed action after they had completed all of the pile driving associated with the project and before the expiration of their prior IHA (85 FR 44043; July 21, 2020). Therefore, NMFS has withdrawn its proposed IHA for the action.

Dated: July 13, 2021.
Catherine Marzin,
Acting Director, Office of Protected Resources, National Marine Fisheries Service.

[FR Doc. 2021-15244 Filed 7-16-21; 8:45 am]

BILLING CODE 3510-22-P